SMALL BUSINESS ADMINISTRATION

Notice Seeking Exemption Under Section 312 of the Small Business Investment Act, Conflicts of Interest

Notice is hereby given that RiverVest Venture Fund I, L.P. (the Fund), 7701 Forsyth Boulevard, Suite 740, St. Louis, Missouri 63105, has filed a License Application under the Small Business Investment Act of 1958, as amended (“the Act”), in connection with the financing of a small concern, have sought an exemption under section 312 of the Act and section 107.730, Financings which Constitute Conflicts of Interest of the Small Business Administration (“SBA”) rules and regulations (13 CFR 107.730 (2000)). The Fund proposes to provide equity financing to TissueLink Medical, Inc. (“TissueLink”), One Washington Center, Suite 400, Dover, New Hampshire 03820. The financing is contemplated for working capital or inventory purchase, marketing activities, and research and development.

The financing is brought within the purview of section 107.730(a)(1) of the regulations because Jay W. Schmelter and Crescendo Ventures (“Crescendo”), Associates of the Fund, currently own, directly or indirectly, greater than 10% of TissueLink and therefore TissueLink is considered an Associate of Jay W. Schmelter and Crescendo as defined in section 107.50 of the regulations. (Mr. Schmelter because he is a Control Person of the Fund, and Crescendo Ventures because Mr. Schmelter was formerly a member of the general partner of Crescendo within six months of the date of the subject financing.)

Notice is hereby given that any interested person may submit written comments on the transaction to the Associate Administrator for Investment, U.S. Small Business Administration, 409 Third Street, SW., Washington, DC 20416.

Dated: November 21, 2000.
Don A. Christensen,
Associate Administrator for Investment.

[FR Doc. 00-30568 Filed 11-29-00; 8:45 am]

BILLING CODE 8025-01-U